DEPARTMENT OF AGRICULTURE

Foreign Agricultural Service

Notice To Request an Extension for a Currently Approved Information Collection

AGENCY: Foreign Agricultural Service, USDA.

ACTION: Notice and request for comments.

SUMMARY: In accordance with the Paperwork Reduction Act of 1995, this notice announces the intention of the Foreign Agricultural Service to revise the currently approved information collection for the USDA's Pima Agricultural Cotton Trust Fund.

DATES: Comments on this notice must be received by January 25, 2021 to be assured of consideration.

ADDRESSES: You may send comments, identified by the OMB Control number 0551-0044, by any of the following methods:

□ Federal eRulemaking Portal: http://www/regulations.gov. This portal enables respondents to enter short comments or attach a file containing lengthier comments.

□ Email: PODadmin@usda.gov. Include OMB Control Number 0551-0044 in the subject line of the message.

□ Mail, Courier, or Hand Delivery: Benjamin Chan, U.S. Department of Agriculture, Foreign Agricultural Service, 1400 Independence Avenue SW, Room 6509, Washington, DC 20250.

Instructions: All items submitted by mail or electronic mail must include the agency name. Comments received in response to this docket will be made available for public inspection and posted without change, including any personal information, to http://www.regulations.gov.

FOR FURTHER INFORMATION CONTACT: Benjamin Chan, Grant Programs Branch, Program Operations Division, Foreign Agricultural Service, U.S. Department of Agriculture, Room 6509, Washington, DC 20250-1034, telephone: (202) 720-9516, email: pimawool@fas.usda.gov.

SUPPLEMENTARY INFORMATION:

Title: Pima Agricultural Cotton Trust Fund.

OMB Control Number: 0551-0044.

Expiration Date of Approval: Three years from approval date.

Type of Request: Extension of a currently approved information collection.

Abstract: This information collection is required for affidavits submitted to FAS for claims against the Pima Agricultural Cotton Trust Fund. Claimants of the Pima Agricultural Cotton Trust Fund will be required to submit electronically a notarized affidavit to request a distribution from the Trust Fund to FAS and will be available on the FAS website under the Pima Agriculture Cotton Trust Fund program section.

Estimate of Burden: Public reporting burden for this collection of information is estimated to average 1 hour per response for affidavits related to the Pima Agricultural Cotton Trust Fund.

Respondents: Under the Pima Agricultural Cotton Trust Fund there are three groups of potential respondents, all of whom must meet the requirements of Section 12314 of the Agricultural Act of 2014 (Pub. L. 113-79), as amended by the Agriculture Improvement Act of 2018 (Pub. L. 115-334) in order to be eligible to receive a payment: (1) One or more nationally recognized associations established for the promotion of pima cotton for use in textile and apparel goods; (2) Certain yarn spinners of pima cotton that produced ring spun cotton yarns in the United States from pima cotton during the prior calendar year; (3) Manufacturers who cut and sew cotton shirts in the United States who certify that they used imported cotton fabric during the prior calendar year.

Estimated Number of Respondents: 9.

Estimated Number of Responses per Respondent: 1.

Estimated Number of Responses: 9.

Estimated Total Annual Burden on Respondents: 9 hours.

Copies of this information collection can be obtained from Ronald Croushorn, the Agency Information Collection Coordinator, at (202) 720-3038 or email at Ron.Croushorn@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

FAS is committed to compliance with the Government Paperwork Elimination Act, which requires Government agencies, in general, to provide the public the option of submitting information or transacting business electronically to the maximum extent possible.

Comments will be available for inspection online at http://www.regulations.gov and at the mail address listed above between 8:00 a.m. and 4:30 p.m., Monday through Friday, except holidays.

Persons with disabilities who require an alternative means for communication of information (Braille, large print, audiotape, etc.) should contact Colette Ross (Human Resources, 202-720-8805) or Jeffrey Galloway (Office of Civil Rights, 202-690-1399).

All comments received in response to this notice, including names and addresses when provided, will be a matter of public record. Comments will be summarized and included in the submission for Office of Management and Budget approval.

E-Government Act Compliance

FAS is committed to complying with the E-Government Act of 2002, to promote the use of the internet and other information technologies to provide increased opportunities for citizen access to Government information and services, and for other purposes. Persons with disabilities who require an alternative means for communication of information (e.g., Braille, large print, audiotape, etc.) should contact USDA's Target Center at (202) 720-2600 (voice and TDD).

Daniel Whitley,
Acting Administrator, Foreign Agricultural Service.

[FR Doc. 2020-25987 Filed 11-23-20; 8:45 am]

BILLING CODE 3410-10-P